DEPARTMENT OF LABOR

Veterans' Employment and Training Service

Fiscal Years (FYs) 2008 Through 2010 Stand Down Grant Award Requests

AGENCY: Veterans' Employment and Training Service (VETS), U.S. Department of Labor (USDOL).

ACTION: Initial announcement of available FY 2008, FY-2009, and FY-2010 funds under the Homeless Veterans' Reintegration Program (HVRP) to Support Local Stand Down Events. Funding Opportunity No.: 17-805.

SUMMARY: The U.S. Department of Labor (USDOL), Veterans' Employment and Training Service (VETS) continues to support local Stand Down events that assist homeless veterans and is now accepting applications for Stand Down grant awards. A Stand Down is an event held in a local community where homeless veterans are provided with a wide variety of social services. Under this announcement, VETS anticipates that up to $400,000 will be available in each of the three fiscal years for grant awards of up to a maximum of $10,000 per multi-day event (more than one day), and a maximum of $7,000 for a one (1) day event. VETS expects to award approximately forty-five (45) grants each fiscal year. Availability of Fiscal Year 2009, and Fiscal Year 2010 funds will be dependent upon Congressional appropriations. Applications for Stand Down funds will be accepted from State Workforce Agencies and State and local Workforce Investment Boards, Veterans Service Organizations (VSO), local public agencies, and non-profit organizations, including community and faith-based organizations. USDOL is not authorized to award grant funds to organizations that are registered with Internal Revenue Service (IRS) as a 501(c)(4) organization.

Application for Stand Down grant funding are to be submitted to the appropriate State Director of Veterans Employment and Training/ Grant Officer Technical Representative (DVET/GOTR). Address and contact information for each State DVET/GOTR can be found at Web site address: http://www.dol.gov/vets/aboutvets/contacts/main.htm.

To be considered for FY-2008 funding, applications must be received within thirty (30) days of this announcement. This will allow for obligation of funds prior to 9/30/08. Any events approved in Fiscal Year 2008 must be held prior to 12/31/08.

Applications for other events planned in Fiscal Year 2009 must be received at least sixty (60) days prior to the event and no later than July 30, 2009.

Applications for events planned in Fiscal Year 2010 must be received at least sixty (60) days prior to the event and no later than July 30, 2010.

SUPPLEMENTARY INFORMATION:

I. Funding Opportunity Description

Stand Down is a military term referring to an opportunity to achieve a brief respite from combat. Troops would assemble in a base camp to receive new clothing, hot food, and a relative degree of safety before returning to the front. Today more than 160 organizations across the country partner with local businesses, government agencies, and community- and faith-based service providers to hold Stand Down events for homeless veterans and their families in the local community.

Each year, the Assistant Secretary for Veterans' Employment and Training awards Homeless Veterans' Reintegration Program (HVRP) grants to programs that enhance employment and training opportunities and/or promote self-sufficiency for homeless veterans. Residual HVRP funds can be awarded as grants to organizations sponsoring Stand Down events for homeless veterans.

The critical services provided at a Stand Down are often the catalyst that enables homeless veterans to reenter mainstream society. Typically, some of the services available at these events include temporary shelter, showers, haircuts, meals, clothing, hygiene kits, medical examinations, immunizations, legal advice, State identification cards, veterans benefit information, training program information, employment services, and referral to other supportive services. For the purpose of this Stand Down grant award, applicants must plan (and indicate in writing in their grant application package) to provide the following minimum services to homeless veteran participants:

Department of Veterans Affairs medical and mental health services;

Department of Labor—State Workforce Agency employment and training services to include Disabled Veterans' Outreach Program and Local Veterans' Employment Representatives participation where available;

An assortment of hot and/or cold foods to provide to homeless veteran participants;

An assortment of clothing appropriate for the local climate to provide to homeless veteran participants; and

Referral services to secure emergency housing on-the-spot for homeless veteran participants.

II. Allowable Costs

Stand Down grant funds must be used to enhance employment and training opportunities or to promote self-sufficiency for homeless veterans. The funds may be used to support Stand Down activities such as:

The purchase of food, bottled water, clothing, sleeping bags, one-person tents, backpacks filled with non-perishable foods, and hygiene care kits;

Rental of facilities and/or tents for the duration of the Stand Down event;

Payment for special one-time electricity costs, equipment rentals, advertising, event posters, portable toilets, janitorial/kitchen supplies, and communications/Internet access for the duration of the Stand Down event;

The hiring of security personnel for the duration of the event;

Rental of transportation equipment (bus, van, car, taxi, etc.) and/or actual gasoline expenses of volunteer drivers to provide transportation of homeless veterans to and from the Stand Down event; and

Other pertinent items and services for homeless veteran participants as deemed appropriate by USDOL—VETS.

III. Funding Restrictions

Stand Down grant funds may not be used to pay for administrative costs and administrative and/or programmatic staff, because these events are usually an all “volunteer” effort. Stand Down grant funds may not be used to purchase special monogrammed tee shirts, pen sets, specialty hats (unless for cold weather use), military and veteran type patches, memento gifts for staff members/visitors/volunteers, and any other supplementary/replacement item(s) that has not been approved by the DVET/GOTR.

IV. Award Information

The maximum amount that can be awarded to support a local Stand Down event is $10,000 per applicant per year. If the event is held for one (1) day, the maximum amount that can be awarded is $7,000.

V. Eligibility Information

1. Eligible Applicants

Eligible applicants will generally fall into one of the following categories: State and local Workforce Boards, Veteran Service Organizations, local public agencies, and non-profit organizations including community and faith-based organizations. Organizations registered with the Internal Revenue Service as a 501 (c) (4) organizations are not eligible to apply for this funding opportunity.

2. Cost Sharing or Matching

Cost Sharing and matching funds are not required. However, we strongly encourage applicants to maximize the resources available to the Stand Down event and its homeless veteran participants.

3. Other Eligibility Requirements

Applicant Registration Requirements: All applicants for Federal funding are required to include a Dun and Bradstreet Number (DUNS) with their application. Applicants can obtain a DUNS number through the following Web site: http://www.dunandbradstreet.com/ or by phone at 1-866-705-5711.

A. After receiving a DUNS number, all grant applicants must also register as a vendor with the Central Contractor Registration (CCR) through the following Web site: http://www.ccr.gov or by phone at 1-888-227-2423. CCR registration should become active within 24 hours of completion. If grant applicants have questions regarding registration, please contact the CCR Assistance Center at 1-888-227-2423.

After registration, grant applicants will receive a confirmation number.

Grantee listed point of Contact will receive a Trader Partnership Identification Number (TPIN) via mail. The TPIN is, and should remain, a confidential password.

VI. Application Content

To be considered responsive, all applications for Stand Down funding must include:

Applicant letter requesting Stand Down funds (original signed in blue ink);

1. Application for Federal Assistance, Standard Form (SF) 424 (OMB No. 4040-0004) (original signed in blue ink). Also Note: The 02 version of the SF-424 which expires on 1/31/2009 must now be used. The Grant Officer will not accept previously issued versions of the SF-424.

2. SF-424A, Budget Information (OMB No. 4040-0006)—Non-Construction Programs (SF-424 and SF-424A forms can be downloaded from the following Web site: www.grants.gov);

Budget Narrative—a detailed description of each planned expenditure listed on the SF-424A. The description should provide the methodology used in determining the cost estimates such as quantity and if the item will be purchased or rented. Please indicate whether the items will be utilized by the participants or assist the volunteer(s) at the event;

Complete the Direct Cost Description for Applicants and Sub-Applicants (see Appendix D);

Demonstrate and document Stand Down Activities and develop a timeline for completion of activities. For Stand Down events that occur on or after July 1st, grant applicants must demonstrate and document planning activities prior to the end of the Fiscal Year (September 30th);

Original signed Assurances and Certifications Signature Page (see Appendix C);

Complete the Survey on Ensuring Equal Opportunity for Applicants (OMB No. 1894-0010) (see Appendix E);

3. A copy of the Central Contractor Registration (CCR) confirmation number. Please do not send the Trader Partnership Identification Number (TPIN) (see Section III.3.A.);

Letters of support, particularly from the local One-Stop Career Centers and/or Disabled Veterans' Outreach Program Specialists (DVOPs) and Local Veterans' Employment Representative (LVER) staff, the Department of Veterans Affairs, Department of Housing and Urban Development (HUD) or the local Continuum of Care (COC), Veterans' Service Organizations (VSO), State and local government agencies, local businesses, local non-profit organizations including community-based and faith-based organizations, etc; when applicable; and

A copy of the Internal Revenue Service documentation indicating approval of non-profit status (for example: 501(c)(3), 501(c)(19), etc.) as required to verify eligibility when claiming non-profit status.

VII. Award Administration Information

Stand Down funding is a non-competitive grant awarded on a first-come, first-served basis until available residual funding is exhausted. Funding is subject to approval by the Grant Officer. If approved, the grantee will receive a grant award document and financial form to complete in order for USDOL Office of Financial Management to set-up an account in the Health and Human Services, Payment Management System (HHS/PMS) to electronically draw down funds.

If awarded funds, the grantee must submit the completed HHS/PMS financial forms directly to the USDOL, Division of Financial Management Operations in order to electronically draw down funds. The financial forms should be sent via FedEx, UPS, or other non-U.S. Postal Service provider to avoid processing delays. If grantee has previously set-up an electronic HHS/PMS account, additional awarded funds will be added into that existing bank account unless otherwise notified in writing. Questions or problems relating to the HHS/PMS paperwork or processes should be referred to the USDOL Office of Financial management at (202) 693-4479.

Upon receipt of grant award financial documents, HHS/PMS will forward a packet of instructions to the grantee on how to set up a payment account. After setting up the account, the grantee will be able to draw down funds to reimburse approved expenses already incurred and to cover approved expenses that will be paid within three (3) days of the draw down. Funds requested for draw down through the HHS/PMS are directly deposited into the account within 24 hours of the request.

Since grantees may draw funds down in more than one quarter, up to and after the date of the Stand Down event, grantees are required to complete a PSC Federal Cash Transaction Report (PS 272) no later than forty-five (45) days after the end of each quarter in which grantees received all or part of their grant award (February 15th, May 15th, August 15th, and November 15th). Instructions for completing this requirement are provided in the HHS/PMS information packet. Grantees are to print hard copies of all PSC 272s submitted to HHS/PMS and provide them with their After Action Activity and Expenditure Report submitted to their appropriate DVET/GOTR.

VIII. Required Post-Event Reporting

No later than forty-five (45) calendar days after the Stand Down event, grantees must submit the Stand Down Report of actual activities and expenditures to the appropriate DVET/GOTR and to the USDOL Procurement Services. If grantees experience any delay in submitting this report, they should immediately contact their appropriate DVET/GOTR and provide a justification to request an extension.

The following documents are required to be submitted by the grantees to their appropriate DVET/GOTR, within forty-five (45) days after completion of the Stand Down event:

An original signed invoice or list of all items purchased with USDOL-VETS grant funding;

Original sales receipts of items purchased with USDOL-VETS funding;

Comparison of planned budget items (per object class categories listed on the SF 424A) vs. actual expenditures. Note, some planned expenditure items are donated at the last minute for these events, therefore, actual expenditures are subject to change. If budget revisions are needed, grantees are to seek prior approval from their appropriate DVET/GOTR;

• SF 269A, Financial Status Reports are to be electronically data entered into E-grants and a signed and dated copy provided to the appropriate DVET/GOTR. Access to E-grants will be provided upon award. SF 269A Financial Status Report forms are available for download at: www.grants.gov);

The Stand Down After Action Report (see Appendix F); and

Copies of all PSC 272s that were also submitted to HHS/PMS.

Grantees are to submit the Stand Down Activity and Expenditure Report to the appropriate DVET/GOTR. The DVET/GOTR will review the report to ensure it is complete and accurate and that all expenditures are appropriate, and allowable.

To prevent processing delays and/or the need to recoup over payments, grantees should wait for notification from the DVET/GOTR that the report has been reviewed and approved at the VETS regional level prior to entering financial reports into E-grants, and prior to sending the originals to Procurement Services. After notification from the DVET/GOTR, grantees are to distribute the Activity and Expenditure Report as follows:

1. The original SF 269A, signed invoice or list of expenditures and the Stand Down After Action Report is mailed to: U.S. Department of Labor, Procurement Services Center, Room S-4307, Attn: Cassandra Mitchell, 200 Constitution Avenue, NW., Washington, DC 20210.

Original sales receipts of items purchased with USDOL-VETS funding, a copy of the signed SF 269A, signed invoice or signed list of expenditures, a comparison of actual versus planned activities and expenditures, Stand Down After Action Report, and copies of all PSC 272s sent to HHS/PMS are to be submitted to the appropriate DVET/GOTR.

If the DVET/GOTR does not recommend approval of a particular expenditure, he/she will notify the grantee in writing with an explanation for the disapproval and instruct grantee to electronically return the funds within 15 calendar days to the HHS/PMS account if already drawn down. All FY 2008 Stand Down awarded funds must be electronically drawn down by no later than November 30, 2008. If Stand Down funds are not electronically drawn down by the grantee within 90 calendar days following the commencement of the Stand Down event and if practicable, the USDOL may reallocate these funds for other purposes accordingly.

Any grantee who fails to comply with the guidance set forth in the Stand Down Special Grant Provisions and reporting requirements will not be considered favorably from any future funding from U.S. Department of Labor Veterans' Employment and Training Service.

IX. Agency Contacts

Questions regarding this announcement should be directed to the DVET/GOTR in your State. Contact information for each DVET/GOTR is located in the VETS Staff Directory at the following Web page: http://www.dol.gov/vets/aboutvets/contacts/main.htm or access the staffing directory at Web site address: http://www.dol.gov/vets.

X. Other Information

Current competitive HVRP grantees are not eligible for a separate non-competitive Stand Down grant award as described in this announcement. Current competitive HVRP grantees are authorized to utilize existing funds for Stand Down purposes.

Appendices: (Located on U.S. Department of Labor, Veterans' Employment and Training Service Web page www.dol.gov/vets follow link for 2008 Stand Down Grants and Required Forms listed under announcements.)

Appendix A: Application for Federal Assistance SF-424

Appendix B: Budget Information Sheet SF-424A

Appendix C: Certifications and Assurances Signature Page

Appendix D: Direct Cost Description for Applicants and Sub-Applicants

Appendix E: Survey on Ensuring Equal Opportunity for Applicants

Appendix F: Stand Down After Action Report

OMB Information Collection No. 1205-0458 Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to: OIRA Desk Officer for VETS/DOL, Office of Management and Budget, 725 17th St., NW., Washington, DC 20503.

Please do not send your completed application to the OMB. Send it to the sponsoring agency as specified in this solicitation.

Signed at Washington, DC, this 25th day of July 2008.
Cassandra Mitchell,
Grant Officer.

[FR Doc. E8-17622 Filed 7-31-08; 8:45 am]

BILLING CODE 4510-79-P